DEPARTMENT OF HEALTH AND HUMAN SERVICES

Centers for Disease Control and Prevention

[Program Announcement Number 00064]

Notice of Availability of Funds; Announcement of a Cooperative Agreement With the Minority Health Professions Foundation To Enhance Professional Education, Research Infrastructure, and Community Service in the Areas of Health Promotion and Disease Prevention Partnering With African American Institutions

A. Purpose

The Centers for Disease Control and Prevention (CDC) and the Agency for Toxic Substances and Disease Registry (ATSDR) announce the availability of fiscal year (FY) 2000 funds for a cooperative agreement program with the Minority Health Professions Foundation (MHPF). The purpose of the program is to assist the Minority Health Professions Foundation in the following manner:

1. To improve the practice of public health at member schools by strengthening their public health infrastructure;

2. To enhance the quantitative and qualitative analytic research infrastructure of the participating institutions;

3. To strengthen the educational and professional development of minority health professionals and educators;

4. To support student training initiatives, in order to introduce public health to minority students;

5. To provide health education and outreach for decreasing the needs of the poor, minority, and under-served populations; and

6. To enhance the interactions between the Minority Health Professions Foundation schools, the historically black colleges and universities and public health institutions.

This program addresses the commitments of the CDC and ATSDR in achieving the health promotion and disease prevention objectives of “Healthy People 2010”, a national activity to reduce morbidity and mortality, while improving the quality of life. This announcement is related to the 2010 objectives, which specify improving the health of groups of people bearing a disproportionate burden of poor health, as compared to the total population. The framework of “Healthy People 2010” consists of two broad goals which are to:

1. Increase quality and years of healthy life; and

2. Eliminate health disparities.

The goals of “Healthy People 2010” have been established as the Nation's prevention goals and as a scorecard for monitoring health status. The nations goals and objectives established in “Healthy People 2010” will build upon the foundation for establishing a small set of leading health indicators that could be presented to the general public and non-health professionals as an introduction to “Healthy People”. “Healthy People 2010” will be a tool for monitoring America's health. For the conference copy of “Health People 2010” visit the internet site: <http://www.health.gov/healthypeople>.

Eliminating disparities by the year 2010 will require new knowledge about the determinants of disease and effective interventions for prevention and treatment. It will also require improved access for all to the resources that influence health. Reaching this goal will necessitate improved collection and use of standardized data to correctly identify all high-risk populations and monitor the effectiveness of health interventions targeting these groups. Research dedicated to a better understanding of the relationships between health status and income, education, race and ethnicity, cultural influences, environment, and access to quality medical services will help us acquire new insights into eliminating the disparities and developing new ways to apply our existing knowledge toward this goal. Improving access to quality health care and the delivery of preventive and treatment services will require working more closely with communities to identify culturally sensitive implementation strategies.

While the nation has made remarkable progress in understanding the causes and risks for developing diseases that have important implications for the health of all Americans, the health status of the nation's minority and poor lag considerably behind that of White Americans. The contributing factors for many disparities include inadequate family incomes, lack of access to medical care, and environmental hazards. The greatest opportunities for improvement and the greatest threats to the future health status of the Nation reside in the population groups that have historically been disadvantaged economically, educationally and politically. In partnering with different racial and ethnic groups, the CDC can work closely with institutions, organizations, and communities to help eliminate disparities in health while meeting the goals of “Healthy People 2010”.

B. Eligible Applicants

Assistance will be provided only to the Minority Health Professions Foundation (MHPF). No other applications are solicited.

The MHPF is the most appropriate and qualified organization to provide services specified under this cooperative agreement because:

1. The MHPF is dedicated to supporting the organizational growth of minority health professional schools to ensure the advancement of specific research in minority health, the education and professional development of minority health care professionals and educators, and the continuing provision of health services in minority and poor communities;

2. The MHPF represents twelve member institutions which include medical, dental, pharmacy, and veterinary medicine schools in historically African-American colleges and universities. Collectively, these institutions have trained one out of every two African American physicians, dentists, and pharmacists; and three out of every four African American veterinarians. The member institutions have also trained a substantial number of other minority and non-minority health professionals;

3. The MHPF member institutions are comprised of the Historically Black Colleges and Universities (HBCUs) that not only house the health professions schools, but three of which house schools of public health;

4. The primary objective of the MHPF and the nine Historically Black Colleges and Universities is to address the health needs of African American and other minority population groups;

5. The MHPF institutional members have significantly fostered and advanced dramatic growth and expansion of its member institution's collaborative efforts, bolstered and supported considerable increase in public health, medical and scientific research, and assisted in amplifying minority health community education and outreach nationally;

6. The MHPF and its member schools have the capacity to conduct basic sciences and clinical research, and are attacking the various diseases and conditions that disproportionately impact minority and disadvantaged citizens in America; and

7. The MHPF member institutions were founded specifically to improve the health status of medically underserved African Americans and other ethnic minority groups, and play a critical role in building the nation's health care workforce.

C. Availability of Funds

Approximately $200,000 is available in FY 2000 to fund this cooperative agreement. Sub-awards will be funded through CDC and ATSDR. A cumulative award of approximately $2,000,000 to the MHPF is expected during FY 2000. Subawards will range from $25,000 to $450,000. It is expected that the awards will begin on September 30, 2000. Funding estimates may vary and are subject to change. Continuation awards within the project period will be made on the basis of satisfactory progress and the availability of funds.

Applications that exceed the funding cap of $450,000 will be excluded from the competition and returned to the applicant.

D. Where To Obtain Additional Information

A complete program description and information on application procedures are contained in the application package. Business management technical assistance may be obtained from Sheri Disler, Senior Grants Management Specialist, Grants Management Branch, Procurement and Grants Office, Centers for Disease Control and Prevention (CDC), 2920 Brandywine Road, Room 3000, MS E-15, Koger Center, Colgate Building, Atlanta, Georgia 30341-3724. Telephone 770-488-2756. E-mail address sjd9@cdc.gov.

Program technical assistance may be obtained from Karen E. Harris, Senior Advisor for Research Projects, Office of the Associate Director for Minority Health, Office of the Director, Centers for Disease Control and Prevention, 1600 Clifton Road, Northeast, Mailstop D-39, Atlanta, Georgia 30333. Telephone (404) 639-4313, E-mail address keh2@cdc.gov.

Dated: June 23, 2000.
John L. Williams,
Director, Procurement and Grants Office, Centers for Disease Control and Prevention (CDC).

[FR Doc. 00-16437 Filed 6-28-00; 8:45 am]

BILLING CODE 4163-18-P